OCCUPATIONAL SAFETY AND HEALTH REVIEW COMMISSION

Senior Executive Service Performance Review Board Membership

AGENCY: U.S. Occupational Safety and Health Review Commission.

ACTION: Annual notice.

SUMMARY: Notice is given under 5 U.S.C. 4314(c)(4) of the appointment of members to the Performance Review Board (PRB) of the Occupational Safety and Health Review Commission.

DATES: Membership is effective on June 16, 2009.

SUPPLEMENTARY INFORMATION: The Review Commission, as required by 5 U.S.C. 4314(c)(1) through (5), has established a Senior Executive Service PRB. The PRB reviews and evaluates the initial appraisal of a senior executive's performance by the supervisor, and makes recommendations to the Chairman of the Review Commission regarding performance ratings, performance awards, and pay-for-performance adjustments. In the case of an appraisal of a career appointee, more than half of the members shall consist of career appointees, pursuant to 5 U.S.C. 4314(c)(5). The names and titles of the PRB members are as follows:

• Terry T. Shelton, Associate Administrator, U.S. Department of Transportation, Federal Motor Carrier Safety Administration;

• Fran L. Leonard, Chief Financial Officer, Federal Mediation and Conciliation Service, Office of the Director;

• Cynthia G. Pierre, PhD, Enforcement Director, U.S. Department of Education, Office of Civil Rights; and

• Janice H. Brambilla, Director of Management Planning, Broadcasting Board of Governors.

FOR FURTHER INFORMATION CONTACT: Debra A. Hall, Deputy Director of Administration, U.S. Occupational Safety and Health Review Commission, 1120 20th Street, NW., Washington, DC 20036, (202) 606-5397.

Dated: June 11, 2009.
Thomasina V. Rogers,
Chairman.

[FR Doc. E9-14138 Filed 6-15-09; 8:45 am]

BILLING CODE 7600-01-P